DEPARTMENT OF THE INTERIOR

Fish and Wildlife Service

Notice of Availability, Draft Assessment Plan

AGENCY: Fish and Wildlife Service, Department of the Interior.

ACTION: Notice of Availability.

SUMMARY: The U.S. Fish and Wildlife Service (Service), on behalf of the Department of the Interior (DOI), as a natural resource trustee, announces the release for public review of the Draft Assessment Plan (AP) for the Natural Resource Damage Assessment and Restoration of the August 27, 1998, Clinch River Chemical Spill. The Draft AP describes the DOI's proposal to assess natural resources injured as a result of chemical spill in the Clinch River in Tazewell County, Virginia.

DATES: Written comments must be submitted on or before July 1, 2000.

ADDRESSES: Requests for copies of the Draft AP may be made to: Susan Lingenfelser, Ph.D., U.S. Fish and Wildlife Service, Virginia Field Office, 6669 Short Lane, Gloucester, Virginia 23061.

Written comments or materials regarding the Draft AP should be sent to the same address.

FOR FURTHER INFORMATION CONTACT: Susan Lingenfelser, Ph.D., Environmental Contaminants Branch, U.S. Fish and Wildlife Service, Virginia Field Office, 6669 Short Lane, Gloucester, Virginia 23061. Interested parties may also call (804) 693-6694. Ext. 113, or send e-mail to susan_lingenfelser@fws.gov for further information.

SUPPLEMENTARY INFORMATION: On August 27, 1998, a tanker truck overturned on U.S. Route 460 in Tazewell County, Virginia. The truck released approximately 1,250 gallons of Octocure 554-revised, a rubber accelerant, into an unnamed tributary about 500 feet from its confluence with the Clinch River. The spill turned the river a snowy white color and appeared to have killed most aquatic organisms, including three species of federally listed endangered mussels, for at least 6.6 miles downstream.

Under the authority of the Comprehensive Response, Compensation and Liability Act of 1980, as amended (CERCLA), “natural resource trustees may assess damages to natural resources resulting from a discharge of oil or a release of a hazardous substance * * * and may seek to recover those damages.” Natural resource damage assessments are separate from the cleanup actions undertaken at a hazardous waste or spill site, and provide a process whereby the natural resource trustees can determine the proper compensation to the public for injury to natural resources. The natural resource damage assessment process seeks to: (1) Determine whether injury to, or loss of, trust resources has occurred: (2) ascertain the magnitude of the injury or loss: (3) calculate the appropriate compensation for the injury, including the cost of restoration; and (4) develop a restoration plan that will restore, rehabilitate, replace, and/or acquire equivalent resources for those resources that were injured or lost.

The Draft AP presents the trustee's approaches for determining the quantifying natural resource injuries and calculating the damages associated with those injuries. By developing an Assessment Plan, the trustee can ensure that the natural resource damage assessment will be completed at a reasonable cost relative to the magnitude of damages. this Assessment Plan presents proposed assessment methodologies to potentially responsible parties, other trustees, affected agencies, and to the public, so that these groups can productively participate in the assessment process. The Draft AP is being released in accordance with the Natural Resource Damage Assessment Regulations found at Title 43 of the Code of Federal Regulation Part II.

Interested members of the public are invited to review and comment on the Draft AP. Copies of the Draft AP are available from the U.S. Fish and Wildlife Service's Virginia Field Office at 6669 Short Lane, Gloucester, Virginia 23061. Additionally the Draft AP is available for review at the Tazewell County Main Library, 310 East Main Street. Tazewell, Virginia 24651 and the Tazewell County Library, Richlands Branch, 102 Suffolk Avenue, Richlands, Virginia 24641. All comments received on the Draft AP will be considered and a response provided either through revision of this Draft AP and incorporation into the Final Assessment Plan, or by letter to the commentor.

Author

The primary author of this notice is Susan Lingenfelser, Ph.D., U.S. Fish and Wildlife Service, Virginia Field Office at 6669 Short Lane, Gloucester, Virginia 23061.

Authority: The authority for this action is the Comprehensive Environmental Response. Compensation and Liability Act of 1980, as amended (“CERCLA”), 42 U.S.C.

Dated: May 22, 2000.
Mamie A. Parker,
Acting Regional Director, Region 5, U.S. Fish and Wildlife Service.

[FR Doc. 00-13614 Filed 5-31-00; 8:45 am]

BILLING CODE 4310-55-M